DEPARTMENT OF JUSTICE

Drug Enforcement Administration

21 CFR Parts 1310, 1313

[DEA-229F]

RIN 1117-AA65

Change of Address for Filing Chemical Import/Export Declarations (DEA Form 486), Reports for the Importation or Exportation of Tableting and Encapsulating Machines, and Other Related Reports

AGENCY: Drug Enforcement Administration (DEA), Justice.

ACTION: Final rule.

SUMMARY: DEA is amending the Code of Federal Regulations (CFR) to change the address for filing certain required reports. These reports include: Import/Export Declarations, including international transactions, for listed chemicals (DEA Form 486); Reports for the importation or exportation of tableting and encapsulating machines (not a DEA Form-486); Quarterly reports on the importation or exportation of listed chemicals when the DEA Form 486 is waived; Reports for the return of exported listed chemicals or exported tableting and encapsulating machines; and Advance notices of importation for transshipment or transfer of listed chemicals. DEA is changing the address in the CFR because the U.S. Postal Service assigned DEA a new post office box when the post office was relocated.

EFFECTIVE DATE: July 31, 2002.

FOR FURTHER INFORMATION CONTACT: Patricia M. Good, Chief, Liaison and Policy Section, Office of Diversion Control, Drug Enforcement Administration, Washington, DC 20537, Telephone (202) 307-7297.

SUPPLEMENTARY INFORMATION:

Why Is DEA Changing the Address for Filing Certain Reports?

The U.S. Postal Service has assigned DEA a new post office box number that replaces the one listed in the Code of Federal Regulations for filing certain required reports. This occurred when the U.S. Postal Service relocated the post office. DEA does not have any discretion concerning this change.

What Is the New Address?

DEA is revising Title 21, Code of Federal Regulations, wherever it mentions: P.O. Box 28346, Washington, DC 20038.

The new address for filing the affected reports is: P.O. Box 27284, Washington, DC 20038.

With publication of this rule, all reports must be sent to the new address.

What Reports Are Affected?

Title 21 of the Code of Federal Regulations requires that certain reports for listed chemicals and tableting and encapsulating machines must currently be filed with the Drug Enforcement Administration at the old address (P.O. Box 28346). The reporting requirements are described in 21 CFR parts 1310 and 1313.

In 21 CFR part 1310, reports affected by the address change include those for the importation and exportation of tableting and encapsulating machines (21 CFR 1310.05(c)) and reports concerning the return of exported tableting or encapsulating machines (21 CFR 1310.06(g)).

In 21 CFR part 1313, the following reports are affected by the address change:

(1) DEA Form 486 for authorization to import listed chemicals (21 CFR 1313.12(b));

(2) Quarterly reports on importations of listed chemicals when the advance notification is waived and no DEA Form 486 is required (21 CFR 1313.12(e));

(3) DEA Form 486 for authorization to export listed chemicals (DEA 1313.21(b));

(4) Quarterly reports on exportation of listed chemicals when the advance notification is waived and no DEA Form 486 is required (21 CFR 1313.21(e));

(5) Reports concerning the return of exported listed chemicals (21 CFR 1313.22(e));

(6) Advance notices of importation for transshipment or transfer of listed chemicals (21 CFR 1313.31(b)); and

(7) DEA Form 486s from brokers or traders for authorization of international transactions of listed chemicals (21 CFR 1313.32(b)(1)).

Regulatory Certifications

Administrative Procedure Act (5 U.S.C. 553)

An agency may find good cause to exempt a rule from certain provisions of the Administrative Procedure Act (5 U.S.C. 553), including notice of proposed rulemaking and the opportunity for public comment, if it is determined to be unnecessary, impracticable, or contrary to the public interest. This rule pertains to agency management, organization and procedure. DEA has no discretion in the change of the post office box number and thus finds it unnecessary and impracticable to permit public notice and comment. Therefore, DEA is publishing this document as a final rule. Further, as the change of address is imminent, and since a delay in the effective date of this regulation could impede the timely receipt of required reports by the regulated industry, DEA finds there is good cause to make this final rule effective immediately.

Regulatory Flexibility Act

The Deputy Assistant Administrator hereby certifies that this rulemaking has been drafted in accordance with the Regulatory Flexibility Act (5 U.S.C. 605(b)), has reviewed this regulation, and by approving it certifies that this regulation will not have a significant economic impact on a substantial number of small entities. This final rule merely changes an address, permitting industry to report to DEA in a timely manner.

Executive Order 12866

The Deputy Assistant Administrator further certifies that this rulemaking has been drafted in accordance with the principles in Executive Order 12866 Section 1(b). DEA has determined that this is not a significant rulemaking action. Therefore, this action has not been reviewed by the Office of Management and Budget.

Executive Order 12988

This regulation meets the applicable standards set forth in Sections 3(a) and 3(b)(2) of Executive Order 12988 Civil Justice Reform.

Executive Order 13132

This rulemaking does not preempt or modify any provision of state law; nor does it impose enforcement responsibilities on any state; nor does it diminish the power of any state to enforce its own laws. Accordingly, this rulemaking does not have federalism implications warranting the application of Executive Order 13132.

Unfunded Mandates Reform Act of 1995

This rule will not result in the expenditure by State, local, and tribal governments, in the aggregate, or by the private sector, of $100,000,000 or more in any one year, and will not significantly or uniquely affect small governments. Therefore, no actions were deemed necessary under the provisions of the Unfunded Mandates Reform Act of 1995.

Small Business Regulatory Enforcement Fairness Act of 1996

This rule is not a major rule as defined by Section 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

Congressional Review Act

The Drug Enforcement Administration has determined that this action is a rule relating to agency procedure and practice that does not substantially affect the rights or obligations of non-agency parties and, accordingly, is not a “rule” as that term is used by the Congressional Review Act (Subtitle E of the Small Business Regulatory Enforcement Fairness Act of 1996 (SBREFA)). Therefore, the reporting requirement of 5 U.S.C. Section 801 does not apply.

List of Subjects

21 CFR Part 1310

Drug traffic control, Exports, Imports, Reporting and recordkeeping requirements.

21 CFR Part 1313

Administrative practice and procedure, Drug traffic control, Exports, Imports, Reporting and recordkeeping requirements.

For the reasons set out above, 21 CFR parts 1310 and 1313 are amended as follows:

PART 1310—[AMENDED]

1. The authority citation for part 1310 continues to read as follows:

Authority: 21 U.S.C. 802, 830, 871(b).

§ 1310.05 [Amended]

2. Section 1310.05(c) is amended by removing the words “P.O. Box 28346” and adding, in their place, the words “P.O. Box 27284”.

§ 1310.06 [Amended]

3. Section 1310.06(g) is amended by removing the words “P.O. Box 28346” and adding, in their place, the words “P.O. Box 27284”.

PART 1313—[AMENDED]

4. The authority citation for part 1313 continues to read as follows:

Authority: 21 U.S.C. 802, 830, 871(b), 971.

§ 1313.12 [Amended]

5. Section 1313.12(b) and (e) introductory text are amended by removing the words “P.O. Box 28346” and adding, in their place, the words “P.O. Box 27284”.

§ 1313.21 [Amended]

6. Section 1313.21(b) and (e) introductory text are amended by removing the words “P.O. Box 28346” and adding, in their place, the words “P.O. Box 27284”.

§ 1313.22 [Amended]

7. Section 1313.22(e) is amended by removing the words “P.O. Box 28346” and adding, in their place, the words “P.O. Box 27284”.

§ 1313.31 [Amended]

8. Section 1313.31(b) introductory text is amended by removing the words “P.O. Box 28346” and adding, in their place, the words “P.O. Box 27284”.

§ 1313.32 [Amended]

9. Section 1313.32(b)(1) is amended by removing the words “P.O. Box 28346” and adding, in their place, the words “P.O. Box 27284”.

Dated: July 16, 2002.
Laura M. Nagel,
Deputy Assistant Administrator, Office of Diversion Control.

[FR Doc. 02-19122 Filed 7-30-02; 8:45 am]

BILLING CODE 4410-09-P